DEPARTMENT OF AGRICULTURE

Natural Resources Conservation Service

Notice of Proposed Change to Section IV of the Field Office Technical Guide (FOTG) of the Natural Resources Conservation Service in Texas

AGENCY: Natural Resources Conservation Service (NRCS), Department of Agriculture.

ACTION: Notice of availability of proposed changes in Section IV of the FOTG of the NRCS in Texas for review and comment.

SUMMARY: It is the intention of the NRCS in Texas to issue a revised conservation practice standard in Section IV of the FOTG for the following practice: Nutrient Management (code 590).

DATES: Comments must be received on or before May 1, 2000.

FOR FURTHER INFORMATION CONTACT: Inquire in writing to John P. Burt, State Conservationist, Natural Resources Conservation Service (NRCS), 101 South Main Street, Temple, Texas 76501. Copies of the practice standard will be made available upon request.

SUPPLEMENTARY INFORMATION: Section 343 of the Federal Agriculture Improvement and Reform Act of 1996 states that revisions made after enactment of the law to NRCS State technical guides used to carry out highly erodible land and wetland provisions of the law shall be made available for public review and comment. For the next 30 days the NRCS will receive comments relative to the proposed changes. Following that period a determination will be made by the NRCS regarding disposition of those comments and a final determination of change will be made.

Dated: March 21, 2000.
John P. Burt,
State Conservationist, Temple, Texas 76501.

[FR Doc. 00-8027 Filed 3-30-00; 8:45 am]

BILLING CODE 3410-16-U